FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

J C Freight, Inc. dba JCTrans Freight, 15240 E. Nelson Avenue, City of Industry, CA 91744. Officers: Ann Yan, Chief Operating Officer, (Qualifying Individual); Wei-Yu Lee, President.

Elite Express Co., Inc., 10105 Dory Avenue, Suite A, Inglewood, CA 90303. Officers: Edward Shih, President, (Qualifying Individual); Judy Keh, Secretary.

DSI Tiger Group, Inc., 17595 Almahurst Street, #206A, City of Industry, CA 91748. Officers: Patricia Wu, Secretary, (Qualifying Individual); Chi Hao Hung, CEO.

D.K. Logistics, Inc., 1533 W. 139th Street, Gardena, CA 90249. Officers: Danny Kim, President, (Qualifying Individual); Yon Jin Kim, Secretary.

Houston Syrius USA, Inc. dba Syrius USA, 3027 Marina Bay Drive, Suite 107, League City, TX 77573. Officer: Christopher Lavan, General Manager, (Qualifying Individual).

International Transportation Group Inc., 372 Doughty Blvd., 2nd Floor, Inwood, NY 11096. Officers: Sui Lung, Shum, Vice President, (Qualifying Individual); Wei Lung, Chen, President.

Leric, Inc., 1930 Japonica Street, New Orleans, LA 70117. Officer: Gerald P. Risberg, President, (Qualifying Individual).

O. T. I. Cargo Inc., 2401 NW 69th Street, Miami, FL 33147. Officer: John Abisch, Director, (Qualifying Individual).

Jury Trans, Inc., 8244 N.W. 14th Street, Miami, FL 33126. Officer: Nabil Enrique Jury Bustamante, President, (Qualifying Individual).

Non-Vessel Operating Common Carrier and Ocean Freight Forwarder Transportation Intermediary Applicants

Energy Freight Systems Corp. of Florida, 6932 NW 51 Street, Miami, FL 33166. Officers: Rafael Fernandez, President, (Qualifying Individual); Jussepe Di Falco, President.

GQ Logistics, Inc., 11222 La Cienega Blvd., #510, Inglewood, CA 90304. Officers: Joon Sok Lee, CFO, (Qualifying Individual); Jun S. Park, CEO.

Interdel Logistics, Inc., 175-01 Rockaway Blvd., Suite 303A, Jamaica, NY 11434. Officer: Rodit R. Marco Vici, President, (Qualifying Individual).

Intermodal Bridge Services Inc., 100 Lighting Way, Suite 305, Secaucus, NJ 07094. Officers: John Knapp, Senior Vice President, (Qualifying Individual); Chen Xiaomin, President.

Ocean Freight Forwarder—Ocean Transportation Intermediary Applicants

Buenos Dias America, Inc., 12440 Firestone Blvd., Suite #1009, Norwalk, CA 90650. Officers: Bonghoon Shin, Vice President, (Qualifying Individual); Sung Soo Lee, President.

Emmeli Shipping, 3200 Sunset Avenue, Suite 209, Ocean, NJ 07712. Officer: Kristen Brandimarte, President, (Qualifying Individual).

Flegenheimer International, Inc., 227 W. Grand Ave., El Segundo, CA 90227. Officers: Blanca R. Lopez, Export Manager, (Qualifying Individual); William A. Flengenheimer, President.

Master Freight International Ltd., 6312 Militia Court, Bensalem, PA 19020. Officer: Nanik P. Lalwani, President, (Qualifying Individual).

Dated: May 10, 2002.
Bryant L. VanBrakle,
Secretary.

[FR Doc. 02-12160 Filed 5-14-02; 8:45 am]

BILLING CODE 6730-01-P